SMALL BUSINESS ADMINISTRATION

Interest Rates

The Small Business Administration publishes an interest rate called the optional “peg” rate (13 CFR 120.214) on a quarterly basis. This rate is a weighted average cost of money to the government for maturities similar to the average SBA direct loan. This rate may be used as a base rate for guaranteed fluctuating interest rate SBA loans. This rate will be 4.500 (4½) percent for the April-June quarter of FY 2004.

James E. Rivera,
Associate Administrator for Financial Assistance.

[FR Doc. E4-739 Filed 4-2-04; 8:45 am]

BILLING CODE 8025-01-P